DEPARTMENT OF TRANSPORTATION

Federal Aviation Administration

Notice of Intent To Rule on Request To Release Airport Property

AGENCY: Federal Aviation Administration (FAA), DOT.

ACTION: Notice of intent to rule on request to release airport property at the St. Louis Lambert International Airport (STL), St. Louis, Missouri.

SUMMARY: The FAA proposes to rule and invites public comment on the release of land at the St. Louis Lambert International Airport, St. Louis, Missouri, under the provisions of 49 U.S.C. 47107(h)(2).

DATES: Comments must be received on or before December 17, 2018.

ADDRESSES:

Comments on this application may be mailed or delivered to the FAA at the following address: Lynn D. Martin, Airports Compliance Specialist, Federal Aviation Administration, Airports Division, ACE-610C, 901 Locust, Room 364, Kansas City, MO 64106.

In addition, one copy of any comments submitted to the FAA must be mailed or delivered to: Dana Ryan, Planning Manager, St. Louis Lambert International Airport, 10701 Lambert International Blvd., St. Louis, MO 3145-0212, 314-551-5027.

FOR FURTHER INFORMATION CONTACT: Lynn D. Martin, Airports Compliance Specialist, Federal Aviation Administration, Airports Division, ACE-610C, 901 Locust, Room 364, Kansas City, MO 64106, (816) 329-2644, lynn.martin@faa.gov.

The request to release property may be reviewed, by appointment, in person at this same location.

SUPPLEMENTARY INFORMATION: The FAA invites public comment on the request to release approximately 1.389 acres of airport property, at the St. Louis Lambert International Airport (STL) under the provisions of 49 U.S.C. 47107(h)(2). On June 13, 2018, the Director of Airports for the City of St. Louis, MO requested from the FAA that approximately 1.389 acres of property, be released for sale to Union Electric (dba Ameron Missouri) for use as sub-station. On October 22, 2018, the FAA determined that the request to release property at the St. Louis Lambert International Airport (STL) submitted by the Sponsor meets the procedural requirements of the Federal Aviation Administration and the release of the property does not and will not impact future aviation needs at the airport. The FAA may approve the request, in whole or in part, no sooner than thirty days after the publication of this Notice.

The following is a brief overview of the request:

St. Louis Lambert International Airport (STL) is proposing the release of two parcels, one parcel on Monroe Avenue contains 0.826 acres and Parcel 2 on Jefferson Avenue containing 0.563 acres for a total containing 1.389 acres. The release of land is necessary to comply with Federal Aviation Administration Grant Assurances that do not allow federally acquired airport property to be used for non-aviation purposes. The sale of the subject property will result in the land at the St. Louis Lambert International Airport (STL) being changed from aeronautical to non-aeronautical use and release the lands from the conditions of the Airport Improvement Program Grant Agreement Grant Assurances. In accordance with 49 U.S.C. 47107(c)(2)(B)(i) and (iii), the airport will receive fair market value for the property, which will be subsequently reinvested in another eligible airport improvement project for aviation at the St. Louis Lambert International Airport.

In addition, any person may, upon appointment and request, inspect the application, notice and other documents determined by the FAA to be related to the application in person at the St. Louis Lambert International Airport.

Issued in Kansas City, MO, on November 5, 2018.
Ed Hyatt,
Acting Director, Airports Division.

[FR Doc. 2018-24875 Filed 11-14-18; 8:45 am]

BILLING CODE 4910-13-P